LEGAL SERVICES CORPORATION

Sunshine Act Meeting of the Board of Directors Operations & Regulations Committee

Time and Date: The Operations and Regulations Committee of the Legal Services Corporation Board of Directors will meet on January 18, 2002. The meeting will begin at 2 p.m. and continue until the Committee concludes its agenda.

Location: Hilton Alexandria Mark Center, 5000 Seminary Road, Alexandria, Virginia.

Status of Meeting: Open.

Matters To Be Considered

1. Approval of agenda.

2. Approval of the minutes of the Committee's meeting of November 16, 2001.

3. Staff report on the status of Current Rulemaking: 45 CFR Part 1626 (Restrictions on Legal Assistance to Aliens); 45 CFR Part 1611 (Eligibility); and 45 CFR Part 1639 (Welfare Reform).

4. Staff report on the status of the activities of the Regulations Review Task Force.

5. A report by David de la Tour on the Office of Compliance & Enforcement's planned activities in 2002.

6. Consider and act on other business.

7. Public comment.

Contact Person for Information: Victor M. Fortuno, Vice President for Legal Affairs, General Counsel & Corporate Secretary, at (202) 336-8800.

Special Needs: Upon request, meeting notices will be made available in alternate formats to accommodate visual and hearing impairments. Individuals who have a disability and need an accommodation to attend the meeting may notify Elizabeth S. Cushing, at (202) 336-8800.

Dated: January 11, 2002.
Victor M. Fortuno,
Vice President for Legal Affairs, General Counsel & Corporate Secretary.

[FR Doc. 02-1181 Filed 1-11-02; 3:53 pm]

BILLING CODE 7050-01-P